DEPARTMENT OF COMMERCE

Bureau of Export Administration

15 CFR Part 705

[Docket No. 000601164-0164-01]

RIN 0694-AC07

Effect of Imported Articles on the National Security

AGENCY: Bureau of Export Administration, Commerce.

ACTION: Final rule.

SUMMARY: The Department of Commerce is amending its regulation on the “Effect of Imported Articles on the National Security” to reduce the number of copies of a request or application for an investigation to be filed with the Department from 12 copies to 1 copy, plus the original, thereby reducing the burden on the applicant.

EFFECTIVE DATE: This rule is effective November 20, 2000.

FOR FURTHER INFORMATION CONTACT: Brad Botwin, Director, Strategic Analysis Division, Office of Strategic Industries and Economic Security, Room 3876, U.S. Department of Commerce, 14th Street and Constitution Avenue, Washington, DC 20230; telephone: (202) 482-4060, FAX: (202) 482-5650, and E-Mail: bbotwin@bxa.doc.gov.

SUPPLEMENTARY INFORMATION:

Background

Section 232 of the Trade Expansion Act of 1962, as amended (19 U.S.C. 1862) (the Act) authorizes investigations to determine the effects on the national security of imports of articles which are the subject of a request or application for an investigation. The implementing regulation, “Effect of Imported Articles on the National Security” (15 CFR Part 705)), prescribes procedures to be followed by the Department of Commerce (the Department) to commence and conduct such investigations.

Consistent with amendments in 1995 to the Paperwork Reduction Act of 1980 to reduce the paperwork burden on persons submitting a request or application for an investigation, section 705.5 of this regulation is being amended to reduce the number of copies of a request or application for and investigation to be filed with the Department from 12 copies to 1 copy, plus the original.

Accordingly, section 705.5 of the regulation is revised to require that an original and 1 copy of a request or application for an investigation be filed with the Director, Office of Strategic Industries and Economic Security, Room 3876, U.S. Department of Commerce, Washington, DC 20230.

Rulemaking Requirements

The Department has made certain determinations with respect to the following rulemaking requirements:

1. This final rule has been determined to be not significant for purposes of Executive Order 12866.

2. Notwithstanding any other provision of law, no person is required to, nor shall a person be subject to a penalty for failure to comply with a collection of information, subject to the Paperwork Reduction Act (PRA), unless that collection of information displays a currently valid OMB Control Number. This rule involves collections of information subject to the Paperwork Reduction Act of 1995 (U.S.C. 3501 et seq.). This regulation involves collections previously approved by the Office of Management and Budget under Control Number 0694-0120, “Procedure to Initiate an Investigation Under the Trade Expansion Act of 1962”, which carries a burden hour estimate of 12 hours per submission.

3. Executive Order 13132: This proposed rule does not contain policies with Federalism implications sufficient to warrant preparation of a Federalism assessment under E.O. 13132.

4. Administrative Procedure Act and Regulatory Flexibility Act: The provisions of the Administrative Procedure Act (5 U.S.C. 553) requiring notice of proposed rulemaking, the opportunity for public participation and a delay in effective date, are inapplicable because this regulation relates to agency procedures (Sec. 5 U.S.C. 553 (b)(A)). Further, no other law requires that a notice of proposed rulemaking and an opportunity for public comment be given for this rule. Because a notice of proposed rulemaking and an opportunity for public comment are not required to be given for this rule under 5 U.S.C. 553 or by any other law, the analytical requirements of the Regulatory Flexibility Act ( 5 U.S.C. 601 et seq.) are not applicable.

List of Subjects in 15 CFR Part 705

Administrative practice and procedure, Business and industry, Classified information, Confidential business information, Imports, Investigations, National Security.

For the reasons set forth in the preamble, part 705 of Chapter VIII, Subchapter A, National Security Industrial Base Regulations (15 CFR part 705) is amended as follows:

PART 705—[AMENDED]

1. The authority citation for Part 705 is revised to read as follows:

Authority: Sec 232, Trade Expansion Act of 1962, as amended (19 U.S.C. 1862)

2. Section 705.5 is amended by revising paragraph (a) to read as follows:

§ 705.5 Request or application for an investigation.

(a) A request or application for an investigation shall be in writing. The original and 1 copy shall be filed with the Director, Office of Strategic Industries and Economic Security, Room 3876, U.S. Department of Commerce, Washington, DC 20230.

* * * * *

Dated: October 11, 2000.
R. Roger Majak,
Assistant Secretary for Export Administration.

[FR Doc. 00-26780 Filed 10-18-00; 8:45 am]

BILLING CODE 3810-JT-P